DEPARTMENT OF STATE

[Public Notice #3679]

Notice of Meetings; United States International Telecommunication Advisory Committee (ITAC); Telecommunication Sector Committee (ITAC-T); ITAC-T U.S. Study Group A; ITAC-T U.S. Study Group D

The Department of State announces meetings of the U.S. International Telecommunication Advisory Committee. The purpose of the Committee is to advise the Department on policy and technical issues with respect to the International Telecommunication Union.

The ITAC will meet on July 2, 2001 from 1:30 to 3:30 at the Telecommunication Industry Association (TIA) offices at 1300 Pennsylvania Avenue, NW., Suite 350 (North Tower), Washington, DC to debrief the recent ITU Council meeting.

The ITAC-T will meet July 11, 2001 at the offices of the Alliance for Telecommunications Industry Solutions (ATIS), 1200 G Street, NW., Suite 500, Washington, DC from 9:30-12:30 to continue working on the ITAC-T Guidelines.

U.S. Study Group A will meet from 9:30 to noon on July 31, 2001 and August 15, 2001 to prepare for the next meeting of ITU-T Study Group 2. The location of the July 31 meeting will be announced. The August 15 meeting will be at the Federal Communications Commission, 6 North Conference room, 445 Twelfth Street, SW., Washington, DC. Attendees should enter through the 12th St. entrance, use the North elevators to go to the sixth floor and call the receptionist (202 418-1460) from the North Elevator lobby for admittance.

The U.S. Study Group A meeting previously scheduled for August 22, 2001 is cancelled.

U.S. Study Group D will meet at the offices of the Alliance for Telecommunications Industry Solutions, 1200 G Street, NW., Suite 500, Washington, DC from 1:30 to 3:30 on July 11, 2001 to begin preparations for the next ITU-T Study Group 9 meeting.

Members of the general public may attend these meetings. Directions to meeting locations and actual room assignments may be determined by calling the Secretariat at 202 647-0965/2592.

Attendees may join in the discussions, subject to the instructions of the Chair. Admission of members will be limited to seating available.

Dated: June 19, 2001.
Doreen McGirr,
Multilateral Affairs, Communication & Information Policy, Department of State.

[FR Doc. 01-16001 Filed 6-21-01; 3:38 pm]

BILLING CODE 4710-45-P